DEPARTMENT OF DEFENSE

Office of the Secretary

Notification of Open Meeting of the National Defense University Board of Visitors (BOV)

AGENCY: National Defense University (NDU), DoD.

ACTION: Notice of open meeting.

SUMMARY: The National Defense University, Designated Federal Officer, has scheduled a meeting of the Board of Visitors. The National Defense University Board of Visitors is a Federal Advisory Board. The Board meets twice a year in proceedings that are open to the public.

DATES: The meeting will be held on May 24 & 25, 2011 from 11:30 a.m. to 5 p.m. on the 24th and continuing on the 25th from 8 a.m. to 12:30 p.m.

ADDRESSES: The Board of Visitors meeting will be held at Marshall Hall, Building 62, Room 155, the National Defense University, 300 5th Avenue, SW., Fort McNair, Washington, DC 20319-5066.

FOR FURTHER INFORMATION CONTACT: Ms. Dolores Hodge @ (202) 685-0082, Fax (202) 685-7707 or HodgeD@ndu.edu.

SUPPLEMENTARY INFORMATION: The future agenda will include discussion on Defense transformation, faculty development, facilities, information technology, curriculum development, post 9/11 initiatives as well as other operational issues and areas of interest affecting the day-to-day operations of the National Defense University and its components. The meeting is open to the public; limited space made available for observers will be allocated on a first come, first served basis. Written statements to the committee may be submitted to the committee at any time or in response to a stated planned meeting agenda by FAX or E-MAIL to the point of contact person listed in the preceding paragraph. (Subject Line: Comment/Statement to the NDU BOV).

Dated: March 11, 2011.
Morgan F. Park,
Alternate OSD Federal Register Liaison Officer, Department of Defense.

[FR Doc. 2011-6359 Filed 3-17-11; 8:45 am]

BILLING CODE 5001-06-P